ENVIRONMENTAL PROTECTION AGENCY

[FRL-9721-9]

Notification of a Public Teleconference of the Science Advisory Board; Exposure and Human Health Committee

AGENCY: Environmental Protection Agency (EPA).

ACTION: Notice.

SUMMARY: The Environmental Protection Agency (EPA) Science Advisory Board (SAB) Staff Office announces a public teleconference of the SAB Exposure and Human Health Committee to discuss its draft report concerning EPA's application of computational toxicology (CompTox) data in risk assessment.

DATES: The public teleconferences will be held on Monday September 24, 2012 from 2 p.m. to 5 p.m. (Eastern Daylight Time).

ADDRESSES: The teleconference will be conducted by telephone only.

FOR FURTHER INFORMATION CONTACT: Any member of the public who wants further information concerning the meeting may contact Dr. Sue Shallal, Designated Federal Officer (DFO), EPA Science Advisory Board (1400R), U.S. Environmental Protection Agency, 1300 Pennsylvania Avenue NW., Washington, DC 20460; via telephone/voice mail (202) 564-2057; fax (202) 565-2098; or email at shallal.suhair@epa.gov. General information concerning the SAB can be found on the SAB Web site at http://www.epa.gov/sab.

SUPPLEMENTARY INFORMATION:

Background

Pursuant to the Federal Advisory Committee Act (FACA), as amended, 5 U.S.C., App., notice is hereby given that the SAB Exposure and Human Health Committee (EHHC) will hold a public teleconference to discuss its draft response to the charge questions regarding the EPA computational toxicology program. The SAB was established pursuant to 42 U.S.C. 4365 to provide independent scientific and technical advice to the Administrator on the technical basis for Agency positions and regulations. The SAB is a Federal Advisory Committee chartered under FACA. The SAB will comply with the provisions of FACA and all appropriate SAB Staff Office procedural policies.

The SAB EHHC along with liaison members of the FIFRA Scientific Advisory Panel (SAP) held a public meeting on May 30-31, 2012 to receive a briefing on EPA's CompTox program and plans for advancing the application of CompTox data into the development of EPA risk assessments. The purpose of this public teleconference is for the Committee to discuss its draft report on this advisory activity. Additional background on this SAB advisory activity is provided in the Federal Register notice published on April 30, 2012 (Vol 77 FR 83: 25479). The Committee's draft report will be posted on the SAB Web site prior to the teleconference.

Availability of Meeting Materials: A meeting agenda, draft report, and other materials for the teleconferences will be placed on the SAB Web site at www.epa.gov/sab.

Procedures for Providing Public Input: Public comment for consideration by EPA's federal advisory committees and panels has a different purpose from public comment provided to EPA program offices. Therefore, the process for submitting comments to a federal advisory committee is different from the process used to submit comments to an EPA program office. Federal advisory committees and panels, including scientific advisory committees, provide independent advice to EPA. Members of the public can submit relevant comments pertaining to the group conducting this advisory activity, EPA's charge, or meeting materials. Input from the public to the SAB will have the most impact if it consists of comments that provide specific scientific or technical information or analysis for the SAB to consider. Members of the public wishing to provide comment should contact the Designated Federal Officer for the relevant advisory committee directly. Oral Statements: In general, individuals or groups requesting an oral presentation at a public teleconference will be limited to five minutes per speaker. To be placed on the public speaker list for the September 24, 2012 meeting, interested parties should notify Dr. Sue Shallal, DFO, by email no later than September 19, 2012. Written Statements: Written statements for these teleconferences should be received in the SAB Staff Office by the same deadlines given above for requesting oral comments. Written statements should be supplied to the DFO via email (acceptable file format: Adobe Acrobat PDF, MS Word, WordPerfect, MS PowerPoint, or Rich Text files in IBM-PC/Windows 98/2000/XP format). It is the SAB Staff Office general policy to post written comments on the Web page for the advisory meeting or teleconference. Submitters are requested to provide an unsigned version of each document because the SAB Staff Office does not publish documents with signatures on its Web sites. Members of the public should be aware that their personal contact information, if included in any written comments, may be posted to the SAB Web site. Copyrighted material will not be posted without explicit permission of the copyright holder.

Accessibility: For information on access or services for individuals with disabilities, please contact Dr. Shallal at the phone number or email address noted above, preferably at least ten days prior to the meeting, to give EPA as much time as possible to process your request.

Dated: August 20, 2012.
Thomas H. Brennan,
Deputy Director, EPA Science Advisory Board Staff Office.

[FR Doc. 2012-21212 Filed 8-27-12; 8:45 am]

BILLING CODE 6560-50-P